DEPARTMENT OF ENERGY

Bonneville Power Administration

Grand Coulee-Bell 500-kV Transmission Line Project

AGENCY: Bonneville Power Administration (BPA), Department of Energy (DOE).

ACTION: Notice of availability of Record of Decision (ROD).

SUMMARY: This notice announces the availability of the ROD to construct the proposed Grand Coulee-Bell 500-kilovolt (kV) Transmission Line Project in Douglas, Grant, Lincoln, and Spokane Counties, Washington, based on the Final Environmental Impact Statement for this project (DOE/EIS-0344, December 2002). The proposed action consists of constructing a new 500-kV transmission line in Washington between the Bureau of Reclamation's Grand Coulee 500-kV switchyard near Grand Coulee and BPA's Bell Substation near Spokane, a distance of 84 miles.

ADDRESSES: Copies of the ROD and EIS may be obtained by calling BPA toll-free at 1-888-276-7790. The ROD and EIS Summary are also available on the Transmission Business Line Web site at http://www.transmission.bpa.gov/projects.

FOR FURTHER INFORMATION, CONTACT: Inez S. Graetzer, Bonneville Power Administration—KEC-4, P.O. Box 3621, Portland, Oregon, 97208-3621; toll-free telephone number 1-800-282-3713; fax number 503-230-5699; or e-mail isgraetzer@bpa.gov.

SUPPLEMENTARY INFORMATION: The proposed action involves removing an existing 115-kV transmission line and replacing it with a 500-kV line on existing right-of-way for most of its length. The line will be constructed using a single-circuit design, with the exception of two short distances of slightly less than one mile where double-circuit towers will be used because the right-of-way is constrained. As part of the proposed action, BPA has decided to expand the existing fenced yard at Bell Substation by about 11.7 acres; slightly expand the fenced area at Grand Coulee Switchyard to accommodate new line termination facilities and other equipment; install one group of series capacitors on an expanded site at BPA's Dworshak 500-kV Substation in Clearwater County, Idaho; and replace existing series capacitors within the current boundary of BPA's Garrison 500-kV Substation in Powell County, Montana. All mitigation measures have been updated, adopted, and included with the ROD. A Mitigation Action Plan will be prepared to be included in the construction specifications to ensure mitigation measures are implemented.

Issued in Portland, Oregon, on January 10, 2003.
Stephen J. Wright,
Administrator and Chief Executive Officer.

[FR Doc. 03-1333 Filed 1-21-03; 8:45 am]

BILLING CODE 6450-01-P